NUCLEAR REGULATORY COMMISSION

[NRC-2015-0059]

Refining and Characterizing Heat Release Rates From Electrical Enclosures During Fire (RACHELLE-FIRE); Correction

AGENCY: Nuclear Regulatory Commission.

ACTION: Draft NUREG; request for comment; correction.

SUMMARY: The U.S. Nuclear Regulatory Commission (NRC) is correcting a notice that was published in the Federal Register (FR) on April 30, 2015, announcing the issuing for public comment of a draft NUREG, NUREG-2178 (EPRI 3002005578), “Refining and Characterizing Heat Release Rates from Electrical Enclosures During Fire (RACHELLE-FIRE), Volume 1: Peak Heat Release Rates and Effect of Obstructed Plume.” This action is necessary to correct the Agencywide Documents Access and Management (ADAMS) Accession number for NUREG-2178.

DATES: This correction is effective immediately. Submit comments by June 15, 2015. Comments received after this date will be considered if it is practical to do so, but the Commission is able to ensure consideration only for comments received before this date.

ADDRESSES: Please refer to Docket ID NRC-2015-0059 when contacting the NRC about the availability of information for this action. You may obtain publicly-available information related to this action by any of the following methods:

• Federal Rulemaking Web site: Go to http://www.regulations.gov and search for Docket ID NRC-2015-0059.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. Draft NUREG-2178, “Refining and Characterizing Heat Release Rates from Electrical Enclosures During Fire (RACHELLE-FIRE), is available in ADAMS under Accession No. ML15111A045.

• NRC's PDR: You may examine and purchase copies of public documents at the NRC's PDR, Room O1-F21, One White Flint North, 11555 Rockville Pike, Rockville, Maryland 20852.

FOR FURTHER INFORMATION CONTACT: David Stroup, Office of Nuclear Regulatory Research; telephone: 301-251-7609; email: David.Stroup@nrc.gov; U.S. Nuclear Regulatory Commission, Washington, DC 20555-0001.

SUPPLEMENTARY INFORMATION: In the FR on April 30, 2015, in FR Doc. 2015-10126, on page 24290, in the second column, third paragraph under the heading “I. Obtaining Information and Submitting Comments,” the ADAMS Accession number “ML15056A144” is corrected to read “ML15111A045.”

Dated at Rockville, Maryland, this 4 day of May, 2015.
For the Nuclear Regulatory Commission.
Mark H. Salley,
Chief, Fire Research Branch, Division of Risk Analysis, Office of Nuclear Regulatory Research.

[FR Doc. 2015-11450 Filed 5-11-15; 8:45 am]

BILLING CODE 7590-01-P